DEPARTMENT OF COMMERCE

Technology Administration

Department of Commerce Radio Frequency Identification (RFID) Workshop With Industry on April 6, 2005 From 9 a.m. to 1 p.m.

AGENCY: Technology Administration, U.S. Department of Commerce.

ACTION: Notice; U.S. Department of Commerce RFID workshop.

SUMMARY: The Technology Administration invites representatives from the high technology industry in the United States to participate in a half-day workshop to discuss the latest advances in Radio Frequency Identification (RFID) technology to include: the benefits of RFID, technology development efforts, current and future applications, and privacy and security considerations.

DATES: RSVP must be received at the address below by no later than March 30th, 2005.

ADDRESSES: Please submit names of attendees to Mr. Saul Summerall, Office of Technology Policy, Technology Administration, U.S. Department of Commerce, Room 4817, 14th Street and Constitution Avenue, NW., Washington, DC 20230. Names of attendees may also be submitted by fax at 202-501-6849 or e-mail saul.summerall@technology.gov.

FOR FURTHER INFORMATION CONTACT: Ms. Sujata Millick, Technology Administration, telephone: 202-482-6804; fax: 202-501-6849, or e-mail: Sujata.Millick@technology.gov. Please direct media inquiries to the Office of Public Affairs, Technology Administration, Ms. Cheryl Mendonsa, Director, 202-482-8321.

SUPPLEMENTARY INFORMATION: The Department of Commerce's National Telecommunications and Information Administration and the Technology Administration held a workshop in April 2004 titled From RFID to Smart Dust: The Expanding Market for Wireless Sensor Technologies, looking at the market, the uses, and the policy issues related to Radio Frequency Identification (RFID) technologies. (http://www.ntia.doc.gov/forums/sensors/index.html). RFID in 2005: Technology and Industry Perspectives follows the 2004 workshop and aims to engage stakeholders and industry in discussions about the potential of the technology and its policy implications.

The primary objective of the workshop is to educate stakeholders and policymakers about the benefits of RFID technology, technology development efforts, current and future applications, and privacy and security considerations, as well as to understand industry's experiences in implementing RFID technologies. In this half-day workshop, industry panelists will give brief presentations on their development, use, or management of RFID technology. The final panel will address the challenge of responsible data policies to sustain RFID technology and develop consumer confidence and acceptance of RFID.

RFID technology applications have the immense potential to enhance commerce, personal and business security, and government and business processes. Market estimates for RFID applications range from about $1 billion in 2004 to almost $5 billion by 2008, with about 30% of all capital goods carrying RFID tags by 2008. This has important implications for businesses and consumers. Introduction of RFID technology into the marketplace requires an explanation of the benefits of the technology and discussions about actual and perceived challenges.

In the case of RFID: technical standards, spectrum, international operability, implementation costs, data privacy and security considerations are part of the current discourse on RFID. The Department of Commerce wants to use this workshop opportunity to ensure that RFID industry concerns and views are heard and that accurate information about the features and abilities of RFID are disseminated.

Dated: March 14, 2005.
Phillip J. Bond,
Under Secretary of Commerce for Technology.

[FR Doc. 05-5399 Filed 3-17-05; 8:45 am]

BILLING CODE 3510-GN-P